FEDERAL EMERGENCY MANAGEMENT AGENCY

Agency Information Collection Activities: Submission for OMB Review; Comment Request

ACTION: Notice and request for comments.

SUMMARY: The Federal Emergency Management Agency has submitted the following proposed information collection to the Office of Management and Budget for review and clearance in accordance with the requirements of the Paperwork Reduction Act of 1995 (44 U.S.C. 3507).

Title: National Fire Department Census.

Type of Information Collection: New.

Abstract. The U.S. Fire Administration (USFA) receives many requests from Fire Service organizations and the general public for information related to fire Departments, including total number of departments, number of stations per department, population protected, and number of fire fighters. Many data products and reports exist that contain fragmented or estimated information about fire department demographics, and capabilities, but there is no single reference source today that aggregates this data to provide a complete and accurate profile of fire departments in the United States. The data collected from this collection of information will be used to develop a database by the USFA to identify all fire departments in the United States that will include information related to demographics, capabilities and activities. The database will also be used by USFA to guide programmatic decisions, provide the Fire Service and the public with information about fire departments, to produce mailing lists for USFA publications and other materials, and serve as a baseline from which to sample fire loss data.

Affected Public: Federal, State, local government, volunteer, and industrial fire departments.

Number of Respondents: 33,000.

Estimated Time per Respondent: 25 minutes.

Estimated Total Annual Burden Hours: 13,860.

Frequency of Response: One-time.

Comments: Interested persons are invited to submit written comments on the proposed information collection to David Rostkler, Desk Officer for the Federal Emergency Management Agency, Office of Information and Regulatory Affairs, Office of Management and Budget, Washington, DC 20503 within 30 days of the date of this notice.

FOR FURTHER INFORMATION CONTACT: Requests for additional information or copies of the information collection should be made to Muriel B. Anderson, FEMA Information Collections Officer, Federal Emergency Management Agency, 500 C Street, SW, Room 316, Washington, DC 20472. Telephone number (202) 646-2625. FAX number (202) 646-3524, or email address: muriel.anderson@fema.gov.

Dated: April 9, 2001.
Reginald Trujillo,
Director, Program Services Division, Operations Support Directorate.

[FR Doc. 01-9174 Filed 4-12-01; 8:45 am]

BILLING CODE 6718-01-P